DEPARTMENT OF AGRICULTURE

Forest Service

Tuolumne-Mariposa Counties Resource Advisory Committee

AGENCY: Forest Service, USDA.

ACTION: Notice of meeting.

SUMMARY: The Tuolumne-Mariposa Counties Resource Advisory Committee will meet on March 7, 2011, at the City of Sonora Fire Department, in Sonora, California. The purpose of the meeting is to convene the Tuolumne-Mariposa Counties Resource Advisory Committee for 2011, review membership and meeting dates, and determine outreach assignments to gather project proposals.

DATES: The meeting will be held March 7, 2011, from 12 p.m. to 3 p.m.

ADDRESSES: The meeting will be held at the City of Sonora Fire Department located at 201 South Shepherd Street, in Sonora, California (CA 95370).

FOR FURTHER INFORMATION CONTACT: Beth Martinez, Committee Coordinator, USDA, Stanislaus National Forest, 19777 Greenley Road, Sonora, CA 95370, (209) 532-3671; EMAIL bethmartinez@fs.fed.us.

SUPPLEMENTARY INFORMATION: Agenda items to be covered include: (1) Welcome and introductions; (2) Review membership and meeting dates; (3) Determine outreach assignments to gather project proposals; (4) Public comment. The meeting is open to the public. Those in attendance will be provided the opportunity to address the Committee.

Dated: February 3, 2011.
Christina M. Welch,
Deputy Forest Supervisor.

[FR Doc. 2011-2854 Filed 2-10-11; 8:45 am]

BILLING CODE 3410-ED-P